DEPARTMENT OF AGRICULTURE

Natural Resources Conservation Service

Public Meeting With All Interested Parties to Comment on the Activities of the Resource Conservation and Development Program

AGENCY: Natural Resources Conservation Service, USDA.

ACTION: Notice of comment period.

SUMMARY: The Department of Agriculture's Natural Resources Conservation Service (NRCS) will solicit comments on the activities of the Resource Conservation and Development (RC&D) Program. Section 2504 of the Farm Security and Rural Investment Act of 2002 (Pub. L. 107-171) requires that the Secretary of Agriculture, in consultation with the National Association of Resource Conservation and Development Councils (NAR&DC), evaluate the RC&D Program to determine whether it is effectively meeting the needs of, and purposes identified by, States, units of governments, Indian tribes, non-profit organizations, and councils participating in, or served by, the program. The Secretary of Agriculture, acting through NRCS, will conduct this evaluation, and submit to the Committee on Agriculture of the U.S. House of Representatives and the Committee on Agriculture, Nutrition, and Forestry of the Senate, a report describing the results of the evaluation, together with any recommendations of the Secretary for continuing, terminating, or modifying the program by June 30, 2005.

As part of this evaluation, NRCS is conducting an open comment period for all interested parties to solicit comments on the activities of the program. Comments will be solicited on, and should be limited to, the following topics: (1) RC&D Program effectiveness in meeting the needs of the States, units of government, Indian tribes, non-profit organizations, and RC&D councils served by the program; (2) RC&D Program effectiveness in developing community leadership conservation; (3) RC&D Program elements that best serve regional conservation and development needs; (4) RC&D Program elements that can be strengthened to better serve regional conservation and development needs.

DATES: Effective Dates: The comment period will be open from December 8, 2004, through January 31, 2004. Written comments also may be submitted, no later than January 31, 2005, to Terry D'Addio, National RC&D Program Manager, Natural Resources Conservation Service, 1400 Independence Avenue SW., Room 6013, South Building, Washington, DC 20250.

FOR FURTHER INFORMATION CONTACT: Terry D'Addio, Natural Resources Conservation Service, telephone: (202) 720-0557; fax: (202) 690-0639, e-mail: terry.d'addio@usda.gov.

Signed in Washington, DC on December 7, 2004.
Bruce I. Knight,
Chief.

[FR Doc. 04-27274 Filed 12-10-04; 8:45 am]

BILLING CODE 3410-16-P